DEPARTMENT OF DEFENSE

Department of the Army

Privacy Act of 1974; System of Records

AGENCY: Department of the Army, DOD.

ACTION: Notice to alter a system of records.

SUMMARY: The Department of the Army is proposing to alter three system of records notice to its existing inventory of record systems subject to the Privacy Act of 1974, (5 U.S.C. 552a), as amended. The alterations expand the categories of individuals covered.

DATES: This proposed action will be effective without further notice on September 7, 2001 unless comments are received which result in a contrary determination.

ADDRESSES: Records Management Division, U.S. Army Records Management and Declassification Agency, Attn: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system reports, as required by 5 U.S.C. 552a(r) of the Privacy Act of 1974, as amended, were submitted on July 19, 2001, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 1, 2001.
L.M. Bynum,
Alternate OSD Federal Register Liaison Officer, Department of Defense.

A0027-3 DAJA

SYSTEM NAME:

Legal Assistance Files (August 3, 1993, 58 FR 41253).

CHANGES:

* * * * *

CATEGORIES OF INDIVIDUALS COVERED BY THE SYSTEM:

Delete entry and replace with ‘Active duty, retired and reserve (on active duty) components of the Armed Forces and their family members. Department of Defense civilian employees outside the United States or who are serving with or accompanying United States Armed Forces outside the United States in a combat zone, contingency operation, deployed by designation as “mission essential” or “emergency essential”, legal assistance is limited, as determined by the supervising attorney, to matters that related to processing for employment.’

AUTHORITY FOR MAINTENANCE OF THE SYSTEM:

Delete entry and replace with ‘10 U.S.C. 3013, Secretary of the Army; 10 U.S.C. 1044, Legal Assistance; Army Regulation 27-1, The Army Legal Assistance Program; and E.O. 9397 (SSN).”

* * * * *

STORAGE:

Delete entry and replace with ‘Paper records in file folders and electronic storage media.’

Retrievability:

Delete entry and replace with ‘By Social Security Number and client's surname.’

* * * * *

RETENTION AND DISPOSAL:

Delete entry and replace with ‘Legal assistance records maintained for 5 years then destroy.’

* * * * *

A0027-3 DAJA

SYSTEM NAME:

Legal Assistance Files.

SYSTEM LOCATION:

Army Legal Assistance Policy Division, Office of the Judge Advocate General, Headquarters, Department of the Army, Washington, DC 20310-2200; Staff Judge Advocate offices at Army commands, installations, and activities. Official mailing addresses are published as an appendix to the Army’s compilation of record system notices.

CATEGORIES OF INDIVIDUALS COVERED BY THE SYSTEM:

Active duty or retired military personnel and/or their dependents.

CATEGORIES OF RECORDS IN THE SYSTEM:

Individual's name, grade/rank, Social Security Number, organization, and details of problem/incident/matter on which legal assistance is sought. Records may be in the form of correspondence, memoranda, opinions of legal assistance officers, and may include interviews, summary of problems considered, advice rendered, referrals made, and documents created as a result of assistance provided.

AUTHORITY FOR MAINTENANCE OF THE SYSTEM:

10 U.S.C. 3013, Secretary of the Army; 10 U.S.C. 1044, Legal Assistance; Army Regulation 27-1, The Army Legal Assistance Program; and E.O. 9397 (SSN).

PURPOSE(s):

To respond to inquiries and settle issues; for management and statistical reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information from this system of records may be disclosed to law students participating in a volunteer legal support program approved by the Judge Advocate General of the Army.

The DoD ‘Blanket Routine Uses’ published at the beginning of the Army's compilation of systems of records notices also apply to this system.

POLICIES AND PRACTICES FOR STORING, RETRIEVING, ACCESSING, RETAINING, AND DISPOSING OF RECORDS IN THE SYSTEM:

STORAGE:

Paper records in file folders and electronic storage media.

RETRIEVABILITY:

By Social Security Number and client's surname.

SAFEGUARDS:

Records are maintained in secured buildings, accessible only to designated authorized personnel who are properly instructed in the permissible use of the information.

RETENTION AND DISPOSAL:

Legal assistance records maintained for 5 years then destroy.

SYSTEM MANAGER(s) AND ADDRESS:

Chief, Army Legal Assistance Policy Division, Office of the Judge Advocate General, 1777 North Kent, Arlington, VA 22209-2194; and the Staff Judge Advocates of organizations listed in the address directory published as an appendix to the Army's compilation of record system notices.

NOTIFICATION PROCEDURE:

Individuals seeking to determine if information about themselves is contained in this record system may inquire of the Staff Judge Advocate of the installation or command where legal assistance was sought.

Individual should provide full name, Social Security Number, and any details that will assist in locating the record.

RECORD ACCESS PROCEDURES:

Individuals seeking access to records about themselves contained in this record system may inquire of the Staff Judge Advocate of the installation or command where legal assistance was sought.

Individual should provide full name, Social Security Number, and any details that will assist in locating the record.

CONTESTING RECORD PROCEDURES:

The Army's rules for accessing records, and for contesting contents and appealing initial agency determinations are contained in Army Regulation 340-21; 32 CFR part 505; or may be obtained from the system manager.

RECORD SOURCE CATEGORIES:

From the individual, his/her attorney, Army records and reports.

EXEMPTIONS CLAIMED FOR THE SYSTEM:

None.

A0215-1 CFSC

SYSTEM NAME:

Non-appropriated Fund Employee Insurance and Retirement Files (February 22, 1993, 58 FR 10002).

CHANGES:

* * * * *

CATEGORIES OF INDIVIDUALS COVERED BY THE SYSTEM:

Delete entry and replace with ‘Army non-appropriated fund (NAF) and appropriated fund employees who participate in the NAF Group Insurance, retirement and 401k plans.

CATEGORIES OF RECORDS IN THE SYSTEM:

Delete entry and replace with ‘Monthly and cumulative insurance and retirement enrollment, dis-enrollment, changes and deductions for each employee; name and Social Security Number.’

AUTHORITY FOR MAINTENANCE OF THE SYSTEM:

Delete entry and replace with ‘10 U.S.C. 3013, Secretary of the Army; Pub. L. 101-508, Portability of Benefits for NAF Employees Act of 1990; Pub. L. 104-106, Defense Authorization Act of 1996; 26 U.S.C. 401, Qualified Pension, Profit-sharing, and Stock Bonus Plans; Army Regulation 215-3, Non-appropriated Funds and Related Activities Personnel Policies and Procedures; and E.O. 9397 (SSN).”

* * * * *

STORAGE:

Delete entry and replace with ‘Electronic storage media, paper records and computer discs.’

RETENTION AND DISPOSAL:

Delete entry and replace with ‘Authorized timekeeper lists records are maintained until super-session, then destroyed. Employee benefits and insurance files maintained by office with Army-wide responsibility are maintained for 65 years after employees’ final separation from Federal service.’

* * * * *

A0215-1 CFSC

SYSTEM NAME:

Non-appropriated Fund Employee Insurance and Retirement Files.

SYSTEM LOCATION:

U.S. Army Community and Family Support Center, 4700 King Street, Alexandria, VA 22331-0500.

CATEGORIES OF INDIVIDUALS COVERED BY THE SYSTEM:

Army non-appropriated fund (NAF) employees who participate in the NAF Group Insurance and Retirement Plan.

CATEGORIES OF RECORDS IN THE SYSTEM:

Monthly and cumulative insurance and retirement enrollment, dis-enrollment, changes and deductions for each employee; name and Social Security Number.

AUTHORITY FOR MAINTENANCE OF THE SYSTEM:

10 U.S.C. 3013, Secretary of the Army; Pub. L. 101-508, Portability of Benefits for NAF Employees Act of 1990; Pub. L. 104-106, Defense Authorization Act of 1996; 26 U.S.C. 401, Qualified Pension, Profit-sharing, and Stock Bonus Plans; Army Regulation 215-3, Non-appropriated Funds and Related Activities Personnel Policies and Procedures; and E.O. 9397 (SSN).

PURPOSE(s):

To substantiate initial enrollment and subsequent change in the NAF Group Insurance and Retirement Plan; to verify monthly deductions and to compute annuities, refunds, and death benefits.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

DISCLOSURE TO CONSUMER REPORTING AGENCIES:

Disclosures pursuant to 5 U.S.C. 552a(b)(12) may be made from this system to ‘consumer reporting agencies’ as defined in the Fair Credit Reporting Act (15 U.S.C. 1681a(f)) or the Federal Claims Collection Act of 1966 (31 U.S.C. 3701 (A)(3)). The purpose of this disclosure is to aid in the collection of outstanding debts owed to the Federal government; typically to provide an incentive for debtors to repay delinquent Federal government debts by making these debts part of their credit records.

Disclosure of records is limited to the individual's name, address, Social Security Number, and other information necessary to establish the individual's identity; the amount, status, and history of the claim; and the agency program under which the claim arose. This disclosure will be made only after the procedural requirement of 31 U.S.C. 3711(f) has been followed.

POLICIES AND PRACTICES FOR STORING, RETRIEVING, ACCESSING, RETAINING, AND DISPOSING OF RECORDS IN THE SYSTEM:

STORAGE:

Electronic storage media, paper records and computer discs.

RETRIEVABILITY:

By individual's surname and Social Security Number.

SAFEGUARDS:

Records are located in controlled areas within building having security guards; information is accessed only by individuals who are properly cleared and trained and have need therefor in the performance of official duties.

RETENTION AND DISPOSAL:

Authorized timekeeper lists records are maintained until super-session, then destroyed. Employee benefits and insurance files maintained by office with Army-wide responsibility are maintained for 65 years after employees' final separation from Federal service.

SYSTEM MANAGER(S) AND ADDRESS:

Commander, U.S. Army Community and Family Support Center, 4700 King Street, Alexandria, VA 22331-0500.

NOTIFICATION PROCEDURE:

Individuals seeking to determine whether information about themselves is contained in this system should address written inquiries to the Commander, U.S. Army Community and Family Support Center, 4700 King Street, Alexandria, VA 22331-0500.

Individual should provide the full name, Social Security Number, NAF activity where employed, and signature.

RECORD ACCESS PROCEDURES:

Individuals seeking access to information about themselves contained in this system should address written inquiries to the Commander, U.S. Army Community and Family Support Center, 4700 King Street, Alexandria, VA 22331-0500

Individual should provide the full name, Social Security Number, NAF activity where employed, and signature.

CONTESTING RECORD PROCEDURES:

The Army's rules for accessing records, and for contesting contents and appealing initial agency determinations are contained in Army Regulation 340-21; 32 CFR part 505; or may be obtained from the system manager.

RECORD SOURCE CATEGORIES:

From the individual and NAF personnel officers.

EXEMPTIONS CLAIMED FOR THE SYSTEM:

None.

A0680-31b TAPC

SYSTEM NAME:

Enlisted Personnel Management Information System (EPMIS) (July 31, 1998, 63 FR 40894).

CHANGES:

* * * * *

SYSTEM LOCATION:

Delete entry and replace with ‘Director, Enlisted Personnel Management Directorate, 2461 Eisenhower Avenue, Alexandria, VA 22332-0400.

Portions of the Enlisted Evaluation System is maintained at U.S. Army Enlisted Records and Evaluation Center, 8899 East 56th Street, Indianapolis, IN 46249-5301.’

CATEGORIES OF INDIVIDUALS COVERED BY THE SYSTEM:

Delete entry and replace with ‘Enlisted Active duty, Army National Guard, Army Reserve personnel on active duty. Initial Active duty training personnel undergoing basic training or advanced individual training; former military personnel who are applicants for enlistment in grade E-1 and E-9.’

CATEGORIES OF RECORDS IN THE SYSTEM:

Delete entry and replace with ‘The Personnel Data Base (PERD TAPDB-AE) contains name, Social Security Number, sex, race, citizenship, religion, marital status, dependents, date and place of birth, residence, assignments, enlistment commitments by military occupational specialty (MOS), civilian acquired skills, advance individual training start and graduation date, aptitude area score, physical profile, ethnic group, grade/date of rank, enlistment and service promotion qualifications, military occupational skill code, education and training, aptitude, separation, retirement, and mailing address.

Recruit Quota system (REQUEST) contains selected information from PERD TAPDB-AE, soldier’s education level and school subject, driver's license data, color vision test data, aptitude battery (ASVAB) scores, defense language aptitude battery score, and medical profile data (PULSHES). Other information contained within includes type, date, and term of enlistment, primary enlistment option, initial processing and training locations, and dates of training. Finally the system identifies the location military entrance processing station that created the accession record, recruiter identification and recruiting are credit code.

Enlisted Year Management File (RETAIN) contains select information from PERSDB TAPDB-AE, reenlistment reclassification/and Reserve component transfer action, basic active service data, estimated termination of service, reenlistment date, civilian education, career management field, primary military occupational specialty code and date of award, source of new Primary Occupational Specialty Code, training information, status of application, assignment code, date of last status change, current location, reservation control number, security investigation status and reenlistment term.’

* * * * *

RETENTION AND DISPOSAL:

Delete entry and replace with ‘Offices having Army-wide responsibility; cut off annually, retain for 1 year in current file area, then retire to Washington National Records Center, destroy 25 years after cut-off.

Military strength monitors at installations and major commands, destroy after 2 years.’

SYSTEM MANAGER(S) AND ADDRESS:

Delete entry and replace with ‘Director, Enlisted Personnel Management Directorate, 2461 Eisenhower Avenue, Alexandria, VA 22332-0400.’

* * * * *

RECORD SOURCE CATEGORIES:

Delete entry and replace with ‘From the individual, from Army automated systems, Military Entrance Processing Command and Army Education Centers.’

* * * * *

A0680-31b TAPC

SYSTEM NAME:

Enlisted Personnel Management Information System (EPMIS).

SYSTEM LOCATION:

Director, Enlisted Personnel Management Directorate, 2461 Eisenhower Avenue, Alexandria, VA 22332-0400.

Portions of the Enlisted Evaluation System is maintained at U.S. Army Enlisted Records and Evaluation Center, 8899 East 56th Street, Indianapolis, IN 46249-5301.

CATEGORIES OF INDIVIDUALS COVERED BY THE SYSTEM:

Enlisted Active duty, Army National Guard, Army Reserve personnel on active duty. Initial Active duty training personnel undergoing basic training or advanced individual training; former military personnel who are applicants for enlistment in grade E-1 and E-9.

CATEGORIES OF RECORDS IN THE SYSTEM:

The Personnel Data Base (PERD TAPDB-AE) contains name, Social Security Number, sex, race, citizenship, religion, marital status, dependents, date and place of birth, residence, assignments, enlistment commitments by military occupational specialty (MOS), civilian acquired skills, advance individual training start and graduation date, aptitude area score, physical profile, ethnic group, grade/date of rank, enlistment and service promotion qualifications, military occupational skill code, education and training, aptitude, separation, retirement, and mailing address.

Recruit Quota system (REQUEST) contains selected information from PERD TAPDB-AE, soldier’s education level and school subject, driver's license data, color vision test data, aptitude battery (ASVAB) scores, defense language aptitude battery score, and medical profile data (PULHES). Other information contained within includes type, date, and term of enlistment, primary enlistment option, initial processing and training locations, and dates of training. Finally the system identifies the location military entrance processing station that created the accession record, recruiter identification and recruiting are credit code.

Enlisted Year Management File (RETAIN) contains select information from PERSDB TAPDB-AE, reenlistment reclassification/and Reserve component transfer action, basic active service data, estimated termination of service, reenlistment date, civilian education, career management field, primary military occupational specialty code and date of award, source of new Primary Occupational Specialty Code, training information, status of application, assignment code, date of last status change, current location, reservation control number, security investigation status and reenlistment term.

AUTHORITY FOR MAINTENANCE OF THE SYSTEM:

10 U.S.C. 3013, Secretary of the Army; Army Regulation 600-8-6, Personnel Accounting and Strength Reporting; and E.O. 9397 (SSN).

PURPOSE(S):

To accomplish personnel management, strength accounting, and manpower management actions.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

Information may be disclosed to the Social Security Administration to verify Social Security Numbers.

The DoD ‘Blanket Routine Uses’ set forth at the beginning of the Army's compilation of systems of records notices also apply to this system.

Policies and practices for storing, retrieving, accessing, retaining, and disposing of records in the system:

STORAGE:

Computer magnetic tapes and discs; computer printouts.

RETRIEVABILITY:

By name of individual and Social Security Number.

SAFEGUARDS:

Information is protected by physical security devices, guards, computer hardware and software safeguard features, personnel clearances and unique passwords to PERDB TAPDB-AE. A tiered security system for access to enlisted data provided via Interactive Voice Response Systems based on the sensitivity of the data items provided, encryption of data transmitted via networks, controlled access to operator rooms and controlled output distribution.

RETENTION AND DISPOSAL:

Offices having Army-wide responsibility; cut off annually, retain for 1 year in current file area, then retire to Washington National Records Center, destroy 25 years after cut-off. Military strength monitors at installations and major commands, destroy after 2 years.

SYSTEM MANAGER(S) AND ADDRESS:

Director, Enlisted Personnel Management Directorate, 2461 Eisenhower Avenue, Alexandria, VA 22332-0400.

NOTIFICATION PROCEDURE:

Individuals seeking to determine whether information about themselves is contained in this system should address written inquiries to the Commander, U.S. Total Army Personnel Command, Enlisted Personnel Management Directorate, 2461 Eisenhower Avenue, Alexandria, VA 223332-0400.

Individual should provide the full name, Social Security Number, current address, and identify the specific category of record involved.

RECORD ACCESS PROCEDURES:

Individuals seeking access to information about themselves contained in this system should address written inquiries to the Commander, U.S. Total Army Personnel Command, Enlisted Personnel Management Directorate, 2461 Eisenhower Avenue, Alexandria, VA 223332-0400.

Individual should provide the full name, Social Security Number, current address, and identify the specific category of record involved.

Blanket requests for information from this consolidated system will not be accepted. If awaiting active duty, specify the date thereof; if separated, individual must state date of separation.

Selected data from Personnel Data Base (PERDB-TAPDF-AE) is also accessible to record subjects through an Interactive Voice Response System (IVRS).

CONTESTING RECORD PROCEDURES:

The Army's rules for accessing records, contesting contents and appealing initial agency determinations are contained in Army Regulation 340-21; 32 CFR part 505; or may be obtained from the system manager.

RECORD SOURCE CATEGORIES:

From the individual, from Army automated systems, Military Entrance Processing Command and Army Education Centers.

EXEMPTIONS CLAIMED FOR THE SYSTEM:

None.

[FR Doc. 01-19824 Filed 8-7-01; 8:45 am]

BILLING CODE 5001-08-P